DEPARTMENT OF THE INTERIOR

National Park Service

Notice of Inventory Completion: Southwest Museum of the American Indian at the Autry National Center of the American West, Los Angeles, CA

AGENCY: National Park Service, Interior.

ACTION: Notice.

Notice is here given in accordance with the Native American Graves Protection and Repatriation Act (NAGPRA), 25 U.S.C. 3003, of the completion of an inventory of human remains and an associated funerary object in the possession of the Southwest Museum of the American Indian at the Autry National Center of the American West, Los Angeles, CA. The human remains and associated funerary object were removed from either Inyo or Tulare County, CA.

This notice is published as part of the National Park Service's administrative responsibilities under NAGPRA, 25 U.S.C. 3003 (d)(3). The determinations in this notice are the sole responsibility of the museum, institution, or Federal agency that has control of the Native American human remains and associated funerary object. The National Park Service is not responsible for the determinations in this notice.

A detailed assessment of the human remains was made by the Southwest Museum of the American Indian at the Autry National Center of the American West professional staff in consultation with representatives of the Paiute-Shoshone Tribe of the Fallon Reservation and Colony, Nevada, which is representing the Great Basin Inter-Tribal NAGPRA Coalition, a non-Federally recognized Indian coalition, consisting of the Inter-Tribal Council of Nevada, a non-Federally recognized Indian group, and the following Federally-recognized Indian tribes: Battle Mountain Shoshone Tribe (Constituent band of the Te-Moak Tribe of Western Shoshone Indians of Nevada); Bridgeport Paiute Indian Colony of California; Duckwater Shoshone Tribe of the Duckwater Reservation, Nevada; Ely Shoshone Tribe of Nevada; Las Vegas Tribe of Paiute Indians of the Las Vegas Indian Colony, Nevada; Lovelock Paiute Tribe of the Lovelock Indian Colony, Nevada; Moapa Band of Paiute Indians of the Moapa River Indian Reservation, Nevada; Paiute-Shoshone Indians of the Bishop Community of the Bishop Colony, California; Paiute-Shoshone Tribe of the Fallon Reservation and Colony, Nevada; Reno-Sparks Indian Colony, Nevada; Shoshone-Paiute Tribes of the Duck Valley Reservation, Nevada; South Fork Band (Constituent band of the Te-Moak Tribe of Western Shoshone Indians of Nevada); Susanville Indian Rancheria, California; Te-Moak Tribe of Western Shoshone Indians of Nevada; Washoe Tribe of Nevada and California; and Yomba Shoshone Tribe of the Yomba Reservation, Nevada. Additional tribes consulted were the Alturas Indian Rancheria, California; Big Pine Band of Owens Valley Paiute Shoshone; Burns Paiute Tribe; Cedarville Rancheria, California; Chemehuevi Indian Tribe of the Chemehuevi Reservation, California; Confederated Tribes of the Goshute Reservation, Nevada and Utah; Death Valley Timbi-Sha Shoshone Band of California; Elko Band (Constituent band of the Te-Moak Tribe of Western Shoshone Indians of Nevada); Fort Bidwell Indian Community of the Fort Bidwell Reservation of California; Fort Independence Indian Community of Paiute Indians of the Fort Independence Reservation, California; Fort McDermitt Paiute and Shoshone Tribes of the Fort McDermitt Indian Reservation, Nevada and Oregon; Kaibab Band of Paiute Indians of the Kaibab Indian Reservation, Arizona; Northwestern Band of the Shoshoni Nation of Utah (Washakie); Paiute Indian Tribe of Utah (Cedar Band of Paiutes, Kanosh Band of Paiutes, Koosharem Band of Paiutes, and Shivwits Band of Paiutes); Paiute-Shoshone Indians of the Lone Pine Community of the Lone Pine Reservation, California; Pit River Tribe, California; Pyramid Lake Paiute Tribe of the Pyramid Lake Reservation, Nevada; San Juan Southern Paiute Tribe of Arizona; Shoshone-Bannock Tribes of the Fort Hall Reservation of Idaho; Skull Valley Band of Goshute Indians of Utah; Southern Ute Indian Tribe of the Southern Ute Reservation, Colorado; Summit Lake Paiute Tribe of Nevada; Utu Utu Gwaitu Paiute Tribe of the Benton Paiute Reservation, California; Walker River Paiute Tribe of the Walker River Reservation, Nevada; and Yerington Paiute Tribe of the Yerington Colony & Campbell Ranch, Nevada.

In an unknown year, human remains representing a minimum of one individual were removed from a cave at R.M. Fuller's ranch in Round Valley, in either Inyo or Tulare County, CA. R.M. Fuller did not remove the human remains until the grave was vandalized. On June 28, 1952, R.M. Fuller donated the human remains and associated funerary object to the museum. No known individual was identified. The one associated funerary object is a stone point fragment.

Museum records are inconclusive concerning the county from which the human remains and point fragment originated. Museum records indicate R.M. Fuller's ranch was located “west of the crest of the Sierras across from Little Lake and probably in Tulare (rather than Inyo) County.” Based on museum records and consultation, museum officials locate the cave near the intersection of Inyo and Tulare Counties, across from Little Lake. Therefore, the human remains and associated funerary object are from the very lower portion of Owens Valley.

Consultation with local museums and Federal agencies confirms the existence of cave burials in the Little Lake area. A cave burial and the associated funerary object demonstrates that, more likely than not, the human remains are Native American. The Paiute and Shoshone have occupied the lower portion of Owens Valley both prehistorically and historically. Literature and consultation evidence with tribal representatives from the Great Basin Inter-Tribal NAGPRA Coalition indicate that the Paiutes and Shoshone have been known to use caves for burial practices. Ethnography, geography, and consultation with the Great Basin Inter-Tribal NAGPRA Coalition, local Federal agencies and museums, supports cultural affiliation of the human remains as Paiute and/or Shoshone.

Officials of the Southwest Museum of the American Indian at the Autry National Center of the American West have determined that, pursuant to 25 U.S.C. 3001 (9-10), the human remains described above represent the physical remains of one individual of Native American ancestry. Officials of the Southwest Museum of the American Indian at the Autry National Center of the American West also have determined that, pursuant to 25 U.S.C. 3001 (3)(A), the one object described above is reasonably believed to have been placed with or near individual human remains at the time of death or later as part of the death rite or ceremony. Lastly, officials of the Southwest Museum of the American Indian at the Autry National Center of the American West have determined that, pursuant to 25 U.S.C. 3001 (2), there is a relationship of shared group identity that can be reasonably traced between the Native American human remains and associated funerary object and the Battle Mountain Shoshone Tribe; Bridgeport Paiute Indian Colony of California; Duckwater Shoshone Tribe of the Duckwater Reservation, Nevada; Ely Shoshone Tribe of Nevada; Las Vegas Tribe of Paiute Indians of the Las Vegas Indian Colony, Nevada; Lovelock Paiute Tribe of the Lovelock Indian Colony, Nevada; Moapa Band of Paiute Indians of the Moapa River Indian Reservation, Nevada; Paiute-Shoshone Indians of the Bishop Community of the Bishop Colony, California; Paiute-Shoshone Tribe of the Fallon Reservation and Colony, Nevada; Reno-Sparks Indian Colony, Nevada; Shoshone-Paiute Tribes of the Duck Valley Reservation, Nevada; South Fork Band; Susanville Indian Rancheria, California; Te-Moak Tribe of Western Shoshone Indians of Nevada; Washoe Tribe of Nevada and California; and Yomba Shoshone Tribe of the Yomba Reservation, Nevada, which are part of the Great Basin Inter-Tribal NAGPRA Coalition, a non-Federally recognized Indian coalition. Additional culturally affiliated tribes are the Big Pine Band of Owens Valley Paiute Shoshone; Burns Paiute Tribe; Chemehuevi Indian Tribe of the Chemehuevi Reservation, California; Confederated Tribes of the Goshute Reservation, Nevada and Utah; Death Valley Timbi-Sha Shoshone Band of California; Elko Band; Fort Bidwell Indian Community of the Fort Bidwell Reservation of California; Fort Independence Indian Community of Paiute Indians of the Fort Independence Reservation, California; Fort McDermitt Paiute and Shoshone Tribes of the Fort McDermitt Indian Reservation, Nevada and Oregon; Kaibab Band of Paiute Indians of the Kaibab Indian Reservation, Arizona; Northwestern Band of the Shoshoni Nation of Utah (Washakie); Paiute Indian Tribe of Utah; Paiute-Shoshone Indians of the Lone Pine Community of the Lone Pine Reservation, California; Pyramid Lake Paiute Tribe of the Pyramid Lake Reservation, Nevada; San Juan Southern Paiute Tribe of Arizona; Shoshone-Bannock Tribes of the Fort Hall Reservation of Idaho; Skull Valley Band of Goshute Indians of Utah; Summit Lake Paiute Tribe of Nevada; Utu Utu Gwaitu Paiute Tribe of the Benton Paiute Reservation, California; Walker River Paiute Tribe of the Walker River Reservation, Nevada; and Yerington Paiute Tribe of the Yerington Colony & Campbell Ranch, Nevada.

Representatives of any other Indian tribe that believes itself to be culturally affiliated with the human remains and associated funerary object should contact LaLeña Lewark, Senior NAGPRA Coordinator, Southwest Museum of the American Indian at the Autry National Center of the American West, 4700 Western Heritage Way, Los Angeles, CA 90027, telephone (323) 667-2000, ext. 220, or Steven M. Karr, Ph.D., Ahmanson Curator of History and Culture and Interim Executive Director for the Southwest Museum of the American Indian at the Autry National Center of the American West, 234 Museum Dr., Los Angeles, CA 90065, telephone (323) 221-2164, ext. 234, before January 8, 2010. Repatriation of the human remains and associated funerary object to the Paiute-Shoshone Tribe of the Fallon Reservation and Colony, Nevada, representing the Great Basin Inter-Tribal NAGPRA Coalition, a non-Federally recognized Indian coalition, and its members, may proceed after that date if no additional claimants come forward.

The Southwest Museum of the American Indian at the Autry National Center of the American West is responsible for notifying the Alturas Indian Rancheria, California; Battle Mountain Shoshone Tribe; Big Pine Band of Owens Valley Paiute Shoshone; Bridgeport Paiute Indian Colony of California; Burns Paiute Tribe; Cedarville Rancheria, California; Chemehuevi Indian Tribe of the Chemehuevi Reservation, California; Confederated Tribes of the Goshute Reservation, Nevada and Utah; Death Valley Timbi-Sha Shoshone Band of California; Duckwater Shoshone Tribe of the Duckwater Reservation, Nevada; Elko Band; Ely Shoshone Tribe of Nevada; Fort Bidwell Indian Community of the Fort Bidwell Reservation of California; Fort Independence Indian Community of Paiute Indians of the Fort Independence Reservation, California; Fort McDermitt Paiute and Shoshone Tribes of the Fort McDermitt Indian Reservation, Nevada and Oregon; Kaibab Band of Paiute Indians of the Kaibab Indian Reservation, Arizona; Las Vegas Tribe of Paiute Indians of the Las Vegas Indian Colony, Nevada; Lovelock Paiute Tribe of the Lovelock Indian Colony, Nevada; Moapa Band of Paiute Indians of the Moapa River Indian Reservation, Nevada; Northwestern Band of the Shoshoni Nation of Utah (Washakie); Paiute-Shoshone Indians of the Bishop Community of the Bishop Colony, California; Paiute-Shoshone Tribe of the Fallon Reservation and Colony, Nevada; Paiute-Shoshone Indians of the Lone Pine Community of the Lone Pine Reservation, California; Paiute Indian Tribe of Utah; Paiute Tribes of the Duck Valley Reservation, Nevada; Pit River Tribe, California; Pyramid Lake Paiute Tribe of the Pyramid Lake Reservation, Nevada; Reno-Sparks Indian Colony, Nevada; San Juan Southern Paiute Tribe of Arizona; Shoshone-Bannock Tribes of the Fort Hall Reservation of Idaho; Skull Valley Band of Goshute Indians of Utah; South Fork Band; Southern Ute Indian Tribe of the Southern Ute Reservation, Colorado; Summit Lake Paiute Tribe of Nevada; Susanville Indian Rancheria, California; Te-Moak Tribe of Western Shoshone Indians of Nevada; Utu Utu Gwaitu Paiute Tribe of the Benton Paiute Reservation, California; Walker River Paiute Tribe of the Walker River Reservation, Nevada; Washoe Tribe of Nevada and California; Yerington Paiute Tribe of the Yerington Colony & Campbell Ranch, Nevada; Yomba Shoshone Tribe of the Yomba Reservation, Nevada; the Great Basin Inter-Tribal NAGPRA Coalition, a non-Federally recognized Indian coalition, and the Inter-Tribal Council of Nevada, a non-Federally recognized Indian group, that this notice has been published.

Dated: November 13, 2009.
David Tarler,
Acting Manager, National NAGPRA Program.

[FR Doc. E9-29300 Filed 12-8-09; 8:45 am]

BILLING CODE 4312-50-S